DEPARTMENT OF COMMERCE

International Trade Administration

United States Travel and Tourism Advisory Board: Meeting of the United States Travel and Tourism Advisory Board

AGENCY: International Trade Administration, U.S. Department of Commerce.

ACTION: Notice of an open meeting.

SUMMARY: The United States Travel and Tourism Advisory Board (Board) will hold the fourth meeting of the current term on Wednesday, February 24, 2015. The Board was re-chartered on August 2013, to advise the Secretary of Commerce on matters relating to the travel and tourism industry.

During this meeting, the Board will present recommendations on infrastructure strategy, cultural and natural heritage, and possibly other topics. Board members will also hear an update on the Presidential Memorandum to develop a national goal to improve the entry process and reduce wait times for international travelers to the United States, and action plans at the 15 largest airports for international arrivals. The Secretary of Commerce will provide an update on the recommendations conveyed at the Board's meeting in November 2014. The agenda may change to accommodate Board business. The final agenda will be posted on the Department of Commerce Web site for the Board at http://trade.gov/ttab, at least one week in advance of the meeting.

DATES: Wednesday, February 24, 2015, 10:00 a.m.-12:30 p.m. and open for public comments.

ADDRESSES: U.S. Department of Commerce, 1401 Constitution Avenue NW., Washington, DC 20230. Guests are requested to register one week in advance by sending an email to OACIE@trade.gov.

FOR FURTHER INFORMATION CONTACT: Niara Phillips, the United States Travel and Tourism Advisory Board, Room 4043, 1401 Constitution Avenue NW., Washington, DC 20230, telephone: 202-482-4501, email: niara.phillips@trade.gov.

SUPPLEMENTARY INFORMATION: Background: The Board advises the Secretary of Commerce on matters relating to the U.S. travel and tourism industry.

Public Participation: The meeting will be open to the public and will be physically accessible to people with disabilities. All guests are required to register in advance. The meeting room will be provided upon registration. Seating is limited and will be on a first come, first served basis. Requests for sign language interpretation, other auxiliary aids, or pre-registration, should be submitted no later than 5 p.m. EDT on February 16, 2015, to Niara Phillips, the U.S. Travel and Tourism Advisory Board, Room 4043, 1401 Constitution Avenue NW., Washington, DC 20230, telephone 202-482-4501, OACIE@trade.gov. Last minute requests will be accepted, but may be impossible to fill. There will be 15 minutes of time allotted for oral comments from members of the public attending the meeting. Any member of the public may submit pertinent written comments concerning the Board's affairs at any time before or after the meeting. Comments may be submitted to Niara Phillips at the contact information indicated above. To be considered during the meeting, comments must be received no later than 5:00 p.m. EDT on February 16, 2015, to ensure transmission to the Board prior to the meeting. Comments received after that date will be distributed to the members but may not be considered at the meeting. Copies of Board meeting minutes will be available within 90 days of the meeting.

Dated: February 9, 2015.
Niara Phillips,
Executive Secretary, United States Travel and Tourism Advisory Board.

[FR Doc. 2015-02917 Filed 2-9-15; 4:15 pm]

BILLING CODE 3510-DR-P